SUSQUEHANNA RIVER BASIN COMMISSION

Actions Taken at the December 12, 2024 Meeting

AGENCY: Susquehanna River Basin Commission.

ACTION: Notice.

SUMMARY: As part of its regular business meeting held on December 12, 2024, in Harrisburg, Pennsylvania the Commission approved the applications of certain water resources projects and took additional actions, as set forth in the Supplementary Information below.

DATES: December 12, 2024.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: In addition to the actions taken on projects identified in the summary above, these actions were also taken: (1) adoption of the 2025 regulatory program fee schedule; (2) approval of a contribution to an abandoned mine drainage project; (3) approval to release a proposed general permit, GP-04 Into-Basin Diversion of Water for public comment; and (4) actions on 16 regulatory program projects.

Project Applications Approved

1. Project Sponsor and Facility: Chesapeake Appalachia, L.L.C. (Susquehanna River), Sheshequin Township, Bradford County, Pa. Application for surface water withdrawal of up to 4.000 mgd (peak day).

2. Project Sponsor and Facility: Coterra Energy Inc. (Tunkhannock Creek), Lenox Township, Susquehanna County, Pa. Application for renewal and modification of surface water withdrawal of up to 2.880 mgd (peak day) (Docket No. 20191201).

3. Project Sponsor and Facility: Coterra Energy Inc. (Tunkhannock Creek), Nicholson Township, Wyoming County, Pa. Application for renewal and modification of surface water withdrawal of up to 2.880 mgd (peak day) (Docket No. 20230903).

4. Project Sponsor and Facility: Dover Township, York County, Pa. Application for groundwater withdrawal of up to 0.144 mgd (30-day average) from Well 11.

5. Project Sponsor and Facility: East Cocalico Township Authority, East Cocalico Township, Lancaster County, Pa. Application for renewal of groundwater withdrawal of up to 0.115 mgd (30-day average) from Well 2A (Docket No. 19990901). Source and service area are located in an Environmental Justice area.

6. Project Sponsor and Facility: Edgewood by Sand Springs, LLC (Nescopeck Creek), Butler Township, Luzerne County, Pa. Applications for renewal of surface water withdrawal of up to 0.317 mgd (peak day) and consumptive use of up to 0.249 mgd (30-day average) (Docket No. 19980102).

7. Project Sponsor: New Enterprise Stone & Lime Co., Inc. Project Facility: Roaring Spring Quarry (Halter Creek 2), Taylor Township, Blair County, Pa. Applications for renewal and modification of consumptive use of up to 0.380 mgd (peak day) and surface water withdrawal of up to 0.288 mgd (peak day) (Docket No. 19940705 and Certificate of Registration No. GF-202204215).

8. Project Sponsor: New Enterprise Stone & Lime Co., Inc. Project Facility: Shippensburg Quarry, Southampton Township, Cumberland County, Pa. Applications for groundwater withdrawals (30-day averages) of up to 0.065 mgd from the Transit Well and 0.020 mgd from the Quarry Well, and consumptive use of up to 0.150 mgd (peak day).

9. Project Sponsor and Facility: Newport Borough Water Authority, Oliver Township, Perry County, Pa. Application for renewal and modification of groundwater withdrawal of up to 0.096 mgd (30-day average) from Well 1 (Docket No. 20140908).

10. Project Sponsor: Pennsylvania Fish & Boat Commission. Project Facility: Benner Spring State Fish Hatchery, Benner Township, Centre County, Pa. Applications for groundwater withdrawals (30-day averages) of up to 0.720 mgd from Well 1 (renewal of Docket No. 19940701) and up to 0.311 mgd from Well 3.

11. Project Sponsor and Facility: Schuylkill County Municipal Authority, Butler Township, Schuylkill County, Pa. Application for renewal of groundwater withdrawal of up to 0.362 mgd (30-day average) from the Gordon Well (Docket No. 20090624). Service area is located in an Environmental Justice area.

12. Project Sponsor and Facility: Strasburg Lancaster County Borough Authority, Strasburg Township, Lancaster County, Pa. Application for renewal of groundwater withdrawal of up to 0.275 mgd (30-day average) from the Fisher Well (Docket No. 19890107). Service area is located in an Environmental Justice area.

13. Project Sponsor and Facility: SWN Production Company, LLC (Susquehanna River), Great Bend Township, Susquehanna County, Pa. Application for renewal of surface water withdrawal of up to 2.000 mgd (peak day) (Docket No. 20191209).

14. Project Sponsor and Facility: Tallman Family Farms, L.L.C. (Wiconisco Creek), Washington Township, Dauphin County, Pa. Application for surface water withdrawal of up to 0.720 mgd (peak day).

Projects Tabled

15. Project Sponsor: The H&K Group. Project Facility: Penn/MD Materials, Fulton Township, Lancaster County, Pa. Applications for consumptive use of up to 0.024 mgd (peak day) and groundwater withdrawals (30-day averages) of up to 1.980 mgd from the Pit Sump, 0.004 mgd from the Primary and Secondary Well, and 0.011 mgd from the Tertiary Well.

16. Project Sponsor: Valley CC LLC. Project Facility: Valley Country Club, Sugarloaf Township, Luzerne County, Pa. Applications for renewal of groundwater withdrawals (30-day averages) of up to 0.090 mgd from the Shop Well and up to 0.090 mgd from the Pumphouse Well (Docket No. 20090632).

Authority: Public Law 91-575, 84 Stat. 1509 et seq., 18 CFR parts 806, 807, and 808.

Dated: December 12, 2024.
Jason E. Oyler
General Counsel and Secretary to the Commission.

[FR Doc. 2024-29693 Filed 12-16-24; 8:45 am]

BILLING CODE 7040-01-P